ENVIRONMENTAL PROTECTION AGENCY

40 CFR Part 52

[EPA-R06-OAR-2017-0129; FRL-9967-64-Region 6]

Approval and Promulgation of Implementation Plans; Louisiana; Regional Haze State Implementation Plan

AGENCY: Environmental Protection Agency (EPA).

ACTION: Proposed rule.

SUMMARY: Pursuant to the Federal Clean Air Act (CAA or the Act), the Environmental Protection Agency (EPA) is amending our recent proposal to approve a revision to the Louisiana State Implementation Plan (SIP) for regional haze submitted for parallel processing on August 24, 2017. On July 13, 2017, we proposed to approve a SIP revision by the State of Louisiana through the Louisiana Department of Environmental Quality (LDEQ) to address certain Best Available Retrofit Technology requirements under Regional Haze for the Entergy R. S. Nelson facility (Nelson), which is an electric generating unit in Calcasieu Parish. We now amend that proposal, by proposing to approve a compliance date three years from the effective date of the final EPA approval of the SIP revision for Nelson to meet an emission limit for sulfur dioxide (SO2) emissions.

DATES: Written comments must be received on or before October 26, 2017.

ADDRESSES: Submit your comments, identified by Docket No. EPA-R06-OAR-2017-0129, at http://www.regulations.gov or via email to huser.jennifer@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Jennifer Huser, 214-665-7347, huser.jennifer@epa.gov. For the full EPA public comment policy, information about CBI or multimedia submissions, and general guidance on making effective comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Jennifer Huser, 214-665-7347, huser.jennifer@epa.gov. To inspect the hard copy materials, please schedule an appointment with Ms. Huser or Mr. Bill Deese at 214-665-7253.

SUPPLEMENTARY INFORMATION: Throughout this document wherever “we,” “us,” or “our” is used, we mean the EPA.

I. Background

Regional haze is visibility impairment that is produced by a multitude of sources and activities which are located across a broad geographic area and emit fine particles (PM2.5) (e.g., sulfates, nitrates, organic carbon, elemental carbon, and soil dust) and their precursors. Fine particle precursors, such as SO2, react in the atmosphere to form PM2.5, which also impair visibility by scattering and absorbing light. The CAA's visibility protection program helps to protect clear views in national parks and wilderness areas identified as “Class I Federal areas” (CAA section 169A, 40 CFR 51 subpart P and 40 CFR 81 subpart D). Vistas in these areas are often obscured by visibility-impairing pollutants caused by emissions from numerous sources located over a wide geographic area. The program requires SIPs to address visibility-impairing pollutants. For more information on regional haze, visibility protection, and SIPs please see our May 19, 2017 and July 13, 2017 Federal Register proposals for Louisiana EGUs discussed below. These proposals can be accessed through regulations.gov (docket EPA-R06-OAR-207-0129).

On May 19, 2017, we published a proposal to approve a Louisiana SIP revision to address regional haze requirements for EGUs with the exception of the Entergy R. S. Nelson EGU (Entergy Nelson) in Calcasieu Parish (82 FR 22936). On July 13, 2017, we published a proposal to approve a proposed Louisiana SIP revision submitted for parallel processing to address regional haze requirements for Entergy Nelson (82 FR 32294). In the July 13, 2017 action, we proposed to approve an SO2 emissions limit of 0.6 pounds per million British Thermal Units (lbs/MMBtu) at Entergy Nelson Unit 6. The compliance date we proposed to approve was no later than the effective date of our approval of a final SIP. On August 24, 2017, Louisiana submitted a letter explaining its intent to revise the compliance date in its SIP for Entergy Nelson Unit 6 based on a public comment received during the State's comment period. On June 21, 2017, Entergy, the owner and operator of Nelson, submitted a comment to LDEQ on the proposed SIP. The comment letter requests a three-year period for the transition to the proposed SO2 limit for Nelson Unit 6. Entergy's letter explains that coal contracts are in place for the next three years. Entergy requests this longer compliance time to allow the company's fuel procurement to transition to new mines with lower sulfur coal. As a result, Louisiana's revised compliance date for Entergy Nelson Unit 6 to meet the SO2 emissions limit is three years from the effective date of our approval of the SIP revision.

II. The EPA's Evaluation

We sent clarifying questions via email to Entergy regarding their need for three years to comply with the emission limit of 0.6 lbs/MMBtu. The questions and Entergy's response are included in the docket. A compliance date of three years from the effective date of our approval of the SIP revision allows time for Entergy Nelson to ensure that Unit 6 is able to continuously meet a SO2 emissions limit of 0.6 lbs/MMBtu once the emission limit becomes enforceable. We believe this is a reasonable basis to allow three years for Nelson Unit 6 to comply with this limit, and this change meets the requirement that BART be installed and operational “as expeditiously as practicable, but in no event later than five years after approval of the [SIP].” 40 CFR 51.308(e)(1)(v). As a result, we propose to approve this SIP revision when it is submitted to EPA.

III. Proposed Action

EPA amends our proposal to approve a Louisiana regional haze SIP revision submitted on August 24, 2017 to allow a compliance date three years from the effective date of the final EPA approval of the SIP revision for Unit 6 of the Entergy Nelson EGU to meet a SO2 emissions limit of 0.6 lbs/MMBtu.

IV. Incorporation by Reference

In this action, we are proposing to include in a final rule regulatory text that includes incorporation by reference. In accordance with the requirements of 1 CFR 51.5, we are proposing to incorporate by reference revisions to the Louisiana regulations as described in the Proposed Action section above. We have made, and will continue to make, these documents generally available electronically through www.regulations.gov and/or in hard copy at the EPA Region 6 office.

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993), 13563 (76 FR 3821, January 21, 2011) and 13771 (82 FR 9339, February 2, 2017);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this action does not involve technical standards; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Particulate matter, Reporting and recordkeeping requirements, Regional haze, Sulfur dioxides, Visibility.

Authority: 42 U.S.C. 7401 et seq.

Dated: September 20, 2017.
Samuel Coleman,
Acting Regional Administrator, Region 6.

[FR Doc. 2017-20533 Filed 9-25-17; 8:45 am]

BILLING CODE 6560-50-P